ENVIRONMENTAL PROTECTION AGENCY

40 CFR Part 70

[No. R803NDT5REV; FRL-7560-4]

Clean Air Act Approval of Revisions to the Operating Permits Program in North Dakota

AGENCY: Environmental Protection Agency (EPA).

ACTION: Proposed rule.

SUMMARY: EPA is proposing to approve, as a revision to North Dakota's title V air operating permits program, a proposed amendment to North Dakota's definition of “major source” in response to recent amendments to the definition of “major source” in the operating permit regulations.

DATES: Written comments must be received in writing on or before October 17, 2003.

ADDRESSES: Written comments may be mailed to Richard R. Long, Director, Air and Radiation Program, Mailcode 8P-AR, Environmental Protection Agency (EPA), Region 8, 999 18th Street, Suite 300, Denver, Colorado 80202-2466. Comments may also be submitted electronically, or through hand delivery/courier. Please follow the detailed instructions (Part (I)(B)(1)(i) through (iii) of the Supplementary Information section) described in the direct final rule which is located in the Rules section of this Federal Register. Copies of the documents relevant to this action are available for public inspection Monday through Friday, 8 a.m. to 4 p.m., excluding federal Holidays, at the Air and Radiation Program, Environmental Protection Agency, Region 8, 999 18th Street, Suite 300, Denver, Colorado 80202-2466. Copies of the documents relevant to this action are also available for public inspection at the North Dakota State Department of Health, Division of Environmental Engineering, 1200 Missouri Avenue, Bismarck, North Dakota 58506.

FOR FURTHER INFORMATION CONTACT: Kathleen Paser, Air and Radiation Program, Mailcode 8P-AR, Environmental Protection Agency (EPA), Region 8, 999 18th Street, Suite 300, Denver, Colorado 80202-2466, 303-312-6526, paser.kathleen@epa.gov.

SUPPLEMENTARY INFORMATION: See the information provided in the Direct Final action of the same title which is located in the Rules and Regulations Section of this Federal Register.

Authority: 42 U.S.C. 7401 et seq.

Dated: September 3, 2003.
Robert E. Roberts,
Regional Administrator, Region 8.

[FR Doc. 03-23752 Filed 9-16-03; 8:45 am]

BILLING CODE 6560-50-P